DEPARTMENT OF HOMELAND SECURITY

Office of the Secretary

Privacy Act of 1974; Consolidation of Department of Homeland Security United States Citizenship and Immigration Services E-Verify Self Check System of Records

AGENCY: Privacy Office, DHS.

ACTION: Notice to consolidate one Privacy Act system of records notice.

SUMMARY: In accordance with the Privacy Act of 1974, the Department of Homeland Security is giving notice that it proposes to consolidate the following Privacy Act system of records notice, Department of Homeland Security/United States Citizenship and Immigration Services—013 E-Verify Self Check (76 FR 9034, February 16, 2011), into the existing Department of Homeland Security system of records notices titled Department of Homeland Security/ALL-037 E-Authentication Records System of Records (79 FR 46857, August 11, 2014) and Department of Homeland Security/United States Citizenship and Immigration Services—011 E-Verify Program System of Records (79 FR 46852, August 11, 2014). As a result of this consolidation, DHS is removing DHS/USCIS-013 from its inventory of systems of records.

DATES: These changes will take effect on November 24, 2014.

FOR FURTHER INFORMATION CONTACT: Karen L. Neuman (202-343-1717), Chief Privacy Officer, Department of Homeland Security, Washington, DC 20528.

SUPPLEMENTARY INFORMATION: Pursuant to the provisions of the Privacy Act of 1974, 5 U.S.C. 552a, and as part of its ongoing integration and management efforts, the Department of Homeland Security (DHS) is consolidating the system of records notice, Department of Homeland Security/United States Citizenship and Immigration Services—013 E-Verify Self Check (76 FR 9034, February 16, 2011), into two existing system of records notices.

DHS will continue to collect and maintain records regarding E-Verify Self Check and will rely upon the following system of records notices titled DHS/ALL-037 E-Authentication Records System of Records (79 FR 46857, August 11, 2014) and DHS/USCIS-011 E-Verify Program System of Records (79 FR 46852, August 11, 2014). DHS is not requesting comment on this notice because the E-Authentication Records and E-Verify Program System of Records notices were open to comment and provided notice of this consolidation. DHS received no comments regarding the consolidation.

There are six additional routine uses applicable to this system as a result of this consolidation. Through the E-Authentication System of Records, DHS may share information to relying parties approved by the National Information Exchange Federation Trust Framework Provider for the purpose of providing federated access to systems when the user has been provided with appropriate notice and the opportunity to consent. Information may also be shared with international, federal, state and local, tribal, private or corporate entities for the purpose of the regular exchange of business contact information in order to facilitate collaboration for official business.

By the consolidation of the E-Verify Self Check System of Records into the E-Verify Program System of records, the following routine uses may apply to E-Verify Self Check: (1) To employers participating in the E-Verify program to verify the employment eligibility of their employees working in the United States; (2) to the American Association of Motor Vehicle Administrators Network and participating Motor Vehicle Agencies for the purpose of validating information for a driver's license, permit, or identification card issued by the Motor Vehicle Agency of states or jurisdictions who have signed a Memorandum of Agreement with DHS under the RIDE program; and (3) to the Department of Justice (DOJ) to responding to matters within the DOJ's jurisdiction of the E-Verify program, especially with respect to discrimination.

Both the E-Verify and E-Authentication Systems of Records permit sharing information with the news media or public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute an unwarranted invasion of personal privacy.

Consolidating and retiring this notice will promote the overall streamlining and management of DHS Privacy Act record systems.

Dated: October 2, 2014.
Karen L. Neuman,
Chief Privacy Officer, Department of Homeland Security.

[FR Doc. 2014-25408 Filed 10-23-14; 8:45 am]

BILLING CODE 9111-97-P